DEPARTMENT OF COMMERCE

International Trade Administration

[A-552-801]

Certain Frozen Fish Fillets from the Socialist Republic of Vietnam: Final Results of the Antidumping Duty Administrative Review and New Shipper Reviews

AGENCY: Import Administration, International Trade Administration, Department of Commerce.

SUMMARY: The Department of Commerce (“Department”) has conducted an administrative review and two new shipper reviews of the antidumping duty order on certain frozen fish fillets from the Socialist Republic of Vietnam (“Vietnam”). See Notice of Antidumping Duty Order: Certain Frozen Fish Fillets from the Socialist Republic of Vietnam, 68 FR 47909 (August 12, 2003) (“Order”). The administrative review and new shipper reviews include four companies, the mandatory respondents, QVD Food Company Ltd. (“QVD”),¹ and Vinh Hoan Corporation (“Vinh Hoan”), and the two new shipper review companies, are Saigon-Mekong Fishery Co., Ltd. (“SAMEFICO”), and Cadovimex II Seafood Import-Export & Processing Joint Stock Company (“Cadovimex II”). We preliminarily found that QVD, Vinh Hoan, SAMEFICO, and Cadovimex II, did not sell subject merchandise at less than normal value (“NV”) and thus received zero margins during the period of review (“POR”), August 1, 2007, through July 31, 2008. See Preliminary Results. We gave interested parties an opportunity to comment on the Preliminary Results. Based upon our analysis of the comments and information received, we made changes to the dumping margin calculations for the final results.² The final dumping margins are listed below in the section entitled “Final Results of the Reviews.”

¹ The Department is treating QVD, QVD Dong Thap Food Co., Ltd. (“QVD DT”), and Thuan Hung Co., Ltd. (“Thuan Hung”) as a single entity in these final results. Similarly, the Department is treating Vinh Hoan, Vinh Hoan USA Inc. (“Vinh Hoan USA”), and Van Duc Food Export Joint Stock Company (“Van Duc“) as a single entity. Section 351.401(f) of the Department's regulations define single entities as those affiliated producers who have production facilities for similar or identical products that would not require substantial retooling of either facility in order to restructure manufacturing priorities and the Secretary concludes that there is a significant potential for the manipulation of price or production. See Certain Frozen Fish Fillets From the Socialist Republic of Vietnam: Notice of Preliminary Results of the New Shipper Reviews and Fifth Antidumping Duty Administrative Review, 74 FR 45805 (September 4, 2009) (“Preliminary Results”).

² See Memorandum to the File from Alan Ray, Case Analyst, through Alex Villanueva, Program Manager, Final Results Analysis for QVD Food Company Ltd. and its Affiliates (“QVD”) (March 10, 2010); Memorandum to the File from Javier Barrientos, Senior Case Analyst, through Alex Villanueva, Program Manager, Final Results Analysis for Vinh Hoan Corporation (“Vinh Hoan”) (March 10, 2010); Memorandum to the File from Alexis Polovina, Case Analyst, through Alex Villanueva, Program Manager, Final Results Analysis for Saigon-Mekong Fishery Co., Ltd. (“SAMEFICO”) (March 10, 2010); and Memorandum to the File from Tim Lord, Case Analyst, through Alex Villanueva, Program Manager, Final Results Analysis for Cadovimex II Seafood Import-Export & Processing Joint Stock Company (“Cadovimex II”) (March 10, 2010).

DATES: Effective Date: March 17, 2010.

FOR FURTHER INFORMATION CONTACT: Alan Ray (QVD), Javier Barrientos (Vinh Hoan), Alexis Polovina (SAMEFICO), and Tim Lord (Cadovimex II) Office 9, AD/CVD Operations, Import Administration, International Trade Administration, U.S. Department of Commerce, 14th Street and Constitution Avenue, NW, Washington, DC 20230; telephone (202) 482-5403, (202) 482-2243, (202) 482-3927, and (202) 482-7425, respectively.

SUPPLEMENTARY INFORMATION:

Case History

On September 4, 2009, the Department published in the Federal Register the preliminary results of these new shipper and administrative reviews of the antidumping duty order on certain frozen fish fillets from Vietnam. Since the Preliminary Results, the following events have occurred.

On October 2, 2009, Petitioners³ and Respondents submitted additional surrogate value information. On October 13, 2009, Petitioners and Respondents submitted rebuttal surrogate value information.

³ The Catfish Farmers of America and individual U.S. catfish processors, America's Catch, Consolidated Catfish Companies, LLC dba Country Select Catfish, Delta Pride Catfish, Inc., Harvest Select Catfish, Inc., Heartland Catfish Company, Pride of the Pond, Simmons Farm Raised Catfish, Inc., and Southern Pride Catfish Company LLC (“Petitioners”).

On October 30, 2009, Petitioners and Respondents submitted case briefs and rebuttal briefs on November 10, 2009.

On December 23, 2009, the Department extended the time limit for completion of the final results of this administrative review and new shipper reviews by 60 days. See Certain Frozen Fish Fillets from the Socialist Republic of Vietnam: Extension of Time Limit for Final Results of the New Shipper and Fifth Antidumping Duty Administrative Review, 74 FR 68228 (December 23, 2009).

On January 11, 2010, the Department solicited additional information from East Sea Seafoods LLC (“ESS LLC”). On January 20, 2010, ESS LLC submitted the additional information. On January 29, 2010, and February 16, 2010, Petitioners and ESS LLC, respectively, submitted additional comments regarding ESS LLC's January 20, 2010 data.

As explained in the memorandum from the Deputy Assistant Secretary for Import Administration, the Department has exercised its discretion to toll deadlines for the duration of the closure of the Federal Government from February 5, through February 12, 2010. Thus, all deadlines in this segment of the proceeding have been extended by seven days. The revised deadline for the final results of this administrative review is now March 10, 2010. See Memorandum to the Record from Ronald Lorentzen, DAS for Import Administration, regarding Tolling of Administrative Deadlines As a Result of the Government Closure During the Recent Snowstorm, dated February 12, 2010.

Scope of the Order

The product covered by the order is frozen fish fillets, including regular, shank, and strip fillets and portions thereof, whether or not breaded or marinated, of the species Pangasius Bocourti, Pangasius Hypophthalmus (also known as Pangasius Pangasius), and Pangasius Micronemus. Frozen fish fillets are lengthwise cuts of whole fish. The fillet products covered by the scope include boneless fillets with the belly flap intact (“regular” fillets), boneless fillets with the belly flap removed (“shank” fillets), boneless shank fillets cut into strips (“fillet strips/finger”), which include fillets cut into strips, chunks, blocks, skewers, or any other shape. Specifically excluded from the scope are frozen whole fish (whether or not dressed), frozen steaks, and frozen belly-flap nuggets. Frozen whole dressed fish are deheaded, skinned, and eviscerated. Steaks are bone-in, cross-section cuts of dressed fish. Nuggets are the belly-flaps.

The subject merchandise will be hereinafter referred to as frozen “basa” and “tra” fillets, which are the Vietnamese common names for these species of fish. These products are classifiable under tariff article codes 1604.19.4000, 1604.19.5000, 0305.59.4000, 0304.29.6033 (Frozen Fish Fillets of the species Pangasius including basa and tra) of the Harmonized Tariff Schedule of the United States (“HTSUS”).⁴ The order covers all frozen fish fillets meeting the above specification, regardless of tariff classification. Although the HTSUS subheading is provided for convenience and customs purposes, our written description of the scope of the order is dispositive.

⁴ Until July, 2004, these products were classifiable under tariff article codes 0304.20.60.30 (Frozen Catfish Fillets), 0304.20.60.96 (Frozen Fish Fillets, NESOI), 0304.20.60.43 (Frozen Freshwater Fish Fillets) and 0304.20.60.57 (Frozen Sole Fillets) of the HTSUS. Until February 1, 2007, these products were classifiable under tariff article code 0304.20.60.33 (Frozen Fish Fillets of the species Pangasius including basa and tra) of the HTSUS.

Analysis of Comments Received

All issues raised in the case and rebuttal briefs by parties to this proceeding and to which we have responded are listed in the Appendix to this notice and addressed in the Issues and Decision Memorandum (“Final Decision Memo”), which is hereby adopted by this notice. Parties can find a complete discussion of the issues raised in this administrative review and the corresponding recommendations in this public memorandum which is on file in the Central Records Unit (“CRU”), room 1117 of the main Department building. In addition, a copy of the Final Decision Memo can be accessed directly on our website at http://ia.ita.doc.gov/. The paper copy and electronic version of the Final Decision Memo are identical in content.

Changes Since the Preliminary Results

Based on a review of the record as well as comments received from parties regarding our Preliminary Results, we have made revisions to the margin calculation for QVD, Vinh Hoan, SAMEFICO and Cadovimex II for the final results. For all changes to the calculations of QVD, Vinh Hoan, SAMEFICO, and Cadovimex II, see the Final Decision Memo and company specific analysis memoranda. For changes to the surrogate values see Memorandum to the File, through Alex Villanueva, Program Manager, AC/CVD Operations, Office 9, from Alexis Polovina, case analyst, AD/CVD Operations, Office 9, New Shipper Review and Fifth Antidumping Duty Administrative Review of Certain Frozen Fish Fillets from the Socialist Republic of Vietnam: Surrogate Values for the Final Results.

FINAL Results of the Reviews

The weighted-average dumping margins for the POR are as follows:

Certain Frozen Fish Fillets from Vietnam
Manufacturer/Exporter | Weighted-Average Margin (Dollars Per Kilogram)
QVD | 0.00
Vinh Hoan | 0.00
SAMEFICO | 0.00
Cadovimex II | 0.00
Agifish⁶ | 0.02
East Sea Joint Venture Company (“ESS JVC”) | 0.02
Vietnam-Wide Entity⁷ | 2.11
⁶ In this proceeding, there are two eligible separate-rate respondents, Agifish and ESS JVC, who were not selected as mandatory respondents. Accordingly, the rate calculated for Agifish and ESS JVC is the assigned non-de minimis per-unit rate of $0.02 per kilogram that Agifish recently received in the most recently completed administrative review. See Notice of Amended Final Results of Antidumping Duty Administrative Review: Certain Frozen Fish Fillets from Vietnam (“4th AR Final”), 74 FR 17816 (April 17, 2009). See also the Rate for Non-Selected Companies section in the Preliminary Results for a discussion the selection of this rate.
⁷ Which includes ESS LLC. See accompanying Issue and Decision Memorandum at Comment 7.

Assessment

The Department will determine, and U.S. Customs and Border Protection (“CBP”) shall assess, antidumping duties on all appropriate entries, pursuant to 19 CFR 351.212(b). We have calculated importer-specific duty assessment rates on a per-unit basis.⁸ In this and future reviews, we will direct CBP to assess importer-specific assessment rates based on the resulting per-unit (i.e., per-kilogram) rates by the weight in kilograms of each entry of the subject merchandise during the POR. The Department intends to issue appropriate assessment instructions directly to CBP 15 days after publication of the final results of these administrative and new shipper reviews.

⁸ We divided the total dumping margins (calculated as the difference between NV and EP or CEP) for each importer by the total quantity of subject merchandise sold to that importer during the POR to calculate a per-unit assessment amount.

With respect to ESS JVC, the Department will instruct CBP to asses $0.02 per kilogram on all appropriate entries, pursuant to 19 CFR 351.212(b) made during the POR up to June 17, 2008, the effective date of the name change from ESS JVC to ESS LLC. For a detailed explanation, please the Final Decision Memo at Comment 7. Any entries made after June 17, 2008, by ESS JVC will be assessed at the Vietnam-wide entity rate of $2.11 per kilogram.

With respect to ESS LLC, the Department shall instruct CBP to assess $2.11 per kilogram on all appropriate entries, pursuant to 19 CFR 351.212(b) made during the POR as it is currently not under administrative review and remains part of the Vietnam-wide entity.

Cash Deposit Requirements

The following cash-deposit requirements will be effective upon publication of the final results of these administrative and new shipper reviews for all shipments of the subject merchandise entered, or withdrawn from warehouse, for consumption on or after the publication date, as provided for by section 751(a)(2)(C) of the Act: (1) the cash deposit rate for each of the reviewed companies that received a separate rate in this review will be the rate listed in the final results of review (except that if the rate for a particular company is ide minimis, i.e., less than 0.5 percent, no cash deposit will be required for that company); (2) for previously investigated companies not listed above, the cash deposit rate will continue to be the company-specific rate published for the most recent period of review; (3) if the exporter is not a firm covered in this review, a prior review, or the original less than fair value investigation, but the manufacturer is, the cash deposit rate will be the rate established for the most recent period for the manufacturer of the merchandise; and (4) the cash deposit rate for all other manufacturers or exporters will be the Vietnam-wide rate of $2.11 per kilogram. These deposit requirements, when imposed, shall remain in effect until further notice.

The cash deposit rate for any future entries made under the name of ESS JVC will be $2.11 per kilogram because we have determined that ESS JVC ceased to exist as of June 17, 2008. See id.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing the final results of these administrative and new shipper reviews and notice in accordance with sections 751(a)(1) and (2) and 777(i) of the Act.

Dated: March 10, 2010.
Ronald K. Lorentzen,
Deputy Assistant Secretary for Import Administration.

Appendix I - Decision Memorandum

Comment 1: Surrogate Country

Comment 2: Surrogative Values

A. Whole Live Fish

B. Broken Fillets

C. Fish Waste

D. Cold Storage

E. Containerization

F. Salt

G. Ice

H. Labor.

I. Comtrade Data

J. Carton/Boxes

Comment 3: Zeroing

Comment 4: Vinh Hoan

A. Collapsing

B. Marine Insurance

Comment 5: QVD (Sales of Sample Sales)

Comment 6: CADOVIMEX-II

A. Deduction of INLFPWUWOG

B. Inflation of Certain Surrogate Values

Comment 7: Appropriate Rate for East Sea Seafood JVC/East Sea Seafood LLC

[FR Doc. 2010-5853 Filed 3-16-10; 8:45 am]

BILLING CODE 3510-DS-S